ENVIRONMENTAL PROTECTION AGENCY

[FRL-8946-7]

Science Advisory Board Staff Office; Notification of an Upcoming Meeting of the Science Advisory Board; Ecological Processes and Effects Committee

AGENCY: Environmental Protection Agency (EPA).

ACTION: Notice.

SUMMARY: The Environmental Protection Agency (EPA or Agency) Science Advisory Board (SAB) Staff Office announces a public meeting of the SAB Ecological Processes and Effects Committee to conduct a review of EPA's draft guidance document, Empirical Approaches for Nutrient Criteria Derivation.

DATES: The meeting dates are Wednesday, September 9, 2009 from 9 a.m. to 5 p.m. (Eastern Time), Thursday, September 10, 2009 from 8:30 a.m. to 5 p.m. (Eastern Time) and Friday, September 11, 2009 from 8:30 a.m. to 12 noon (Eastern Time).

ADDRESSES: The meeting will be held at the Marriott at Metro Center Hotel, 775 12th Street, NW., Washington, DC 20005.

FOR FURTHER INFORMATION CONTACT: Members of the public who wish to obtain further information about this meeting must contact Dr. Thomas Armitage, Designated Federal Officer (DFO). Dr. Armitage may be contacted at the EPA Science Advisory Board (1400F), U.S. Environmental Protection Agency, 1200 Pennsylvania Avenue, NW., Washington, DC 20460; or via telephone/voice mail; (202) 343-9995; fax (202) 233-0643; or e-mail at armitage.thomas@epa.gov. Any inquiry regarding EPA's draft guidance document, Empirical Approaches for Nutrient Criteria Derivation, should be directed to Ms. Ifeyinwa Davis of EPA's Office of Water at davis.ifeyinwa@epa.gov or (202) 566-1096. General information about the EPA SAB, as well as any updates concerning the meeting announced in this notice, may be found on the SAB Web site at http://www.epa.gov/sab.

SUPPLEMENTARY INFORMATION: Pursuant to the Federal Advisory Committee Act, Public Law 92-463, notice is hereby given that the SAB Ecological Processes and Effects Committee will hold a public meeting to conduct a peer review of EPA's draft guidance document, Empirical Approaches for Nutrient Criteria Derivation. The SAB was established by 42 U.S.C. 4365 to provide independent scientific and technical advice to the Administrator on the technical basis for Agency positions and regulations. The SAB is a Federal Advisory Committee chartered under the Federal Advisory Committee Act (FACA), as amended, 5 U.S.C., App. 2. The SAB will comply with the provisions of FACA and all appropriate SAB Staff Office procedural policies.

Background: EPA's Office of Water (OW) is responsible for deriving national recommended water quality criteria that serve as guidance to States to assist them in establishing water quality standards. Nutrients (i.e., nitrogen and phosphorus) have been one of the leading causes of surface water quality impairment in the U.S. Therefore, development of numeric nutrient criteria and assisting States in the adoption of numeric nutrient criteria into their water quality standards is a high priority for OW. EPA published peer reviewed technical guidance for developing nutrient criteria for lakes and reservoirs in April 2000, rivers and streams in July 2000, estuaries and coastal marine waters in October 2001, and Wetlands in June 2008. These guidance documents are available at the following Web site at http://www.epa.gov/waterscience/criteria/nutrient/guidance/index.html. The basic analytical approaches for nutrient criteria derivation described in these previously published guidance documents include: (1) The reference condition approach, (2) stressor-response analysis, and (3) mechanistic modeling. Because many states are currently pursuing the use of empirically-derived stressor-response relationships as the basis for developing numeric nutrient endpoints for water quality standards, OW has developed the draft guidance document, Empirical Approaches for Nutrient Criteria Derivation, to augment EPA's published guidance manuals. OW has asked the Science Advisory Board to review the draft guidance document and comment on the technical soundness of proposed empirical approaches as the basis for future development of numeric nutrient criteria.

On April 27, 2009 the SAB Staff Office published a Federal Register Notice (74 FR 19084-19085) requesting public nominations of scientists in fields such as ecology, biology, environmental science, risk assessment, statistics, and zoology to augment the SAB Ecological Processes and Effects Committee. In particular, the SAB Staff Office requested nominations of scientists with specialized knowledge and expertise in the use of empirically-derived stressor-response relationships to develop nutrient assessment endpoints. The augmented Ecological Processes and Effects Committee will conduct the review of EPA's draft Empirical Approaches for Nutrient Criteria Derivation.

Availability of Meeting Materials: The meeting agenda, SAB Committee roster, charge to the Committee, and other meeting material will be posted on the SAB Web site at http://www.epa.gov/sab in advance of the meeting.

Procedures for Providing Public Input: Interested members of the public may submit relevant written or oral information on the topic of this advisory activity, and/or the group conducting the activity, for the SAB to consider during the advisory process.

Oral Statements: In general, individuals or groups requesting an oral presentation at a public meeting will be limited to five minutes per speaker. Interested parties should contact Dr. Armitage, DFO, in writing (preferably via e-mail) at the contact information noted above by September 1, 2009 to be placed on a list of public speakers for the meeting. Written Statements: Written statements should be received in the SAB Staff Office no later than September 4, 2009 so that the information may be made available to the SAB Committee members for their consideration. Written statements should be supplied to the DFO in the following formats: One hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Dr. Armitage at the phone number or e-mail address noted above, preferably at least ten days prior to the meeting to give EPA as much time as possible to process your request.

Dated: August 11, 2009.
Anthony F. Maciorowski,
Deputy Director, EPA Science Advisory Board Staff Office.

[FR Doc. E9-19759 Filed 8-17-09; 8:45 am]

BILLING CODE 6560-50-P